FEDERAL RESERVE SYSTEM

Change in Bank Control Notices; Acquisitions of Shares of a Bank or Bank Holding Company

The notificants listed below have applied under the Change in Bank Control Act (Act) (12 U.S.C. 1817(j)) and 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Benjamin W. McDonough, Deputy Secretary of the Board, 20th Street and Constitution Avenue NW, Washington DC 20551-0001, not later than December 30, 2025.

A. Federal Reserve Bank of Kansas City (Jeffrey Imgarten, Assistant Vice President) 1 Memorial Drive, Kansas City, Missouri 64198-0001. Comments can also be sent electronically to KCApplicationComments@kc.frb.org:

1. Marcus Houghton Legacy Trust Dated May 8, 2025, Marcus Houghton, as trustee, both of Wichita, Kansas, and Wise & Reber, L.C., as trust protector, McPherson, Kansas; to join the Houghton Family Group, a group acting in concert to acquire voting shares of PBT Bancshares, Inc., and thereby indirectly acquire voting shares of Peoples Bank and Trust Company, both of McPherson, Kansas. Marcus Houghton and Wise & Reber, L.C., have been previously approved as members of the Houghton Family Group.

B. Federal Reserve Bank of Dallas (Lindsey Wieck, Director, Mergers & Acquisitions) 2200 North Pearl Street, Dallas, Texas 75201-2272. Comments can also be sent electronically to Comments.applications@dal.frb.org:

1. The 2018 Ryan Legacy Trust, Round Rock, Texas, Robert Reid Ryan, individually and as trustee, Houston, Texas; and the 2018 Ryan Legacy Trust, Jackson Ray 2001 Trust, Caroline Avery Ryan 2001 Trust, Ella Reese Ryan Trust, Julia Elizabeth 2003 Trust, and the Victoria Lynn 2002 Trust, all of Round Rock, Texas, Wendy Ryan Bivins, individually and as trustee, Amarillo, Texas; to acquire voting shares of R Corp Financial, and thereby indirectly acquire voting shares of R Bank, both of Round Rock, Texas.

Board of Governors of the Federal Reserve System.
Michele Taylor Fennell,
Associate Secretary of the Board.

[FR Doc. 2025-22806 Filed 12-12-25; 8:45 am]

BILLING CODE 6210-01-P